DEPARTMENT OF TRANSPORTATION

Federal Aviation Administration

Environmental Impact Statement: Igor Sikorsky Memorial Airport, Stratford, Connecticut

AGENCY: Federal Aviation Administration (FAA), DOT.

ACTION: Notice of Availability.

SUMMARY: The FAA is issuing this notice to advise the public that a Record of Decision (ROD), resulting from an Environmental Impact Statement (EIS) Re-evaluation has been prepared for Sikorsky Memorial Airport in Stratford, Connecticut.

FOR FURTHER INFORMATION CONTACT: Richard Doucette, Environmental Program Manager, Federal Aviation Administration New England, 12 New England Executive Park, Burlington, MA 01803. Telephone (781) 238-7613.

SUPPLEMENTARY INFORMATION: The FAA is making available a ROD regarding Runway Safety Areas at Sikorsky Memorial Airport in Stratford, Connecticut. The ROD documents the final Agency decisions regarding the proposed projects as described and analyzed in the EIS Re-evaluation. The ROD is available for review during normal business hours at the following locations: FAA New England Region, Airports Division, 16 New England Executive Park, Burlington, MA. Telephone (781) 238-7613 and at Sikorsky Memorial Airport, 1000 Great Meadow Road Terminal Building, Stratford, Connecticut 06497.

Issued on: September 28, 2011.
Bryon H. Rakoff,
Acting Manager, Airports Division.

[FR Doc. 2011-26267 Filed 10-11-11; 8:45 am]

BILLING CODE 4910-13-P